FEDERAL MARITIME COMMISSION

Notice of Agreement Filed

The Commission hereby gives notice of the filing of the following agreement under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011893.

Title: Westwood/Star Sailing and Space Charter Agreement.

Parties: Westwood Shipping Lines, Inc. and Star Shipping A.S.

Filing Party: Pamela J. Auerbach, Esq.; Kirkland & Ellis LLP; 655 Fifteenth Street, NW., Washington, DC 20005.

Synopsis: The proposed agreement would authorize the parties to operate a service and share space in the trade between the U.S. and Canadian Pacific Coasts and ports in Japan, Korea, and China.

By Order of the Federal Maritime Commission.
Dated: December 29, 2004.
Karen V. Gregory,
Assistant Secretary.

[FR Doc. 05-99 Filed 1-3-05; 8:45 am]

BILLING CODE 6730-01-P